DEPARTMENT OF ENERGY

Federal Energy Regulatory Commission

[Docket Nos. EG06-51-000; EG06-63-000; EG06-64-000; EG06-65-000; EG06-66-000; FC06-14-000]

SAF Hydroelectric LLC; COSI ACE, LLC; Mesquite Wind, LLC; FPL Energy Mower County, LLC; Scurry County Wind L.P.; J-Power USA Investment Co., Ltd. ; Notice of Effectiveness of Exempt Wholesale Generator or Foreign Utility Company Status

October 11, 2006.

Take notice that during the month of September 2006, the status of the above-captioned entities as Exempt Wholesale Generators or Foreign Utility Companies became effective by operation of the Commission's regulations. 18 CFR 366.7(a).

Magalie R. Salas,
Secretary.

[FR Doc. E6-17203 Filed 10-16-06; 8:45 am]

BILLING CODE 6717-01-P